SMALL BUSINESS ADMINISTRATION

[Disaster Declaration # 10682 and # 10683]

New York Disaster Number NY-00036

AGENCY: U.S. Small Business Administration.

ACTION: Amendment 1.

SUMMARY: This is an amendment of the Presidential declaration of a major disaster for the State of New York (FEMA-1665-DR), dated 10/24/2006.

Incident: Severe Storms and Flooding.

Incident Period: 10/12/2006 and continuing through 10/25/2006.

EFFECTIVE DATE: 11/16/2006.

Physical Loan Application Deadline Date: 12/26/2006.

EIDL Loan Application Deadline Date: 07/24/2007.

ADDRESSES: Submit completed loan applications to: U.S. Small Business Administration, Processing And Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for the State of New York, dated 10/24/2006, is hereby amended to establish the incident period for this disaster as beginning 10/12/2006 and continuing through 10/25/2006.

All other information in the original declaration remains unchanged.

(Catalog of Federal Domestic Assistance Numbers 59002 and 59008).

Jane M. Pease,
Acting Associate, Administrator for Disaster, Assistance.

[FR Doc. E6-19874 Filed 11-22-06; 8:45 am]

BILLING CODE 8025-01-P